DEPARTMENT OF VETERANS AFFAIRS

[OMB Control No. 2900-0649]

Proposed Information Collection (National Registry of Veterans With Amyotrophic Lateral Sclerosis); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to maintain a national registry on veterans diagnosed with amyotrophic lateral sclerosis (ALS).

DATES: Written comments and recommendations on the proposed collection of information should be received on or before November 13, 2009.

ADDRESSES: Submit written comments on the collection of information through the Federal Docket Management System (FDMS) at http://www.Regulations.gov; or to Mary Stout, Veterans Health Administration (193E1), Department of Veterans Affairs, 810 Vermont Avenue, NW., Washington, DC 20420 or e-mail: http://mary.stout@va.gov. Please refer to “OMB Control No. 2900-0649 in any correspondence. During the comment period, comments may be viewed online through FDMS.

FOR FURTHER INFORMATION CONTACT: Mary Stout at (202) 461-5867 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. ALS Registry Screening Form, VA Form, 10-21047.

b. Biannual Telephone National Registry of Veterans with ALS, VA Form 10-21047a.

c. Verbal Informed Consent VIA Telephone, National Registry of Veterans with ALS, VA Form 10-21047b.

OMB Control Number: 2900-0649.

Type of Review: Extension of a currently approved collection.

Abstract: ALS is a disease of high priority to the Department of Veterans Affairs because of ongoing concerns about the health of veterans who served in the Gulf War. The creation of the registry will have significance both for VA and for the larger U.S. society in understanding the natural history of ALS. It will provide VA with crucial epidemiological data on the current population of veterans with ALS, as well as the ongoing identification of new cases. The data will help VA to understand how veterans are affected by ALS and may assist with early identification of new ALS clusters. This registry will provide a mechanism for informing veterans with ALS of new clinical drug trials and other studies.

Affected Public: Individuals or households.

Estimated Annual Burden: 882.

Estimated Average Burden per Respondent: 29 minutes.

Frequency of Response: Semi-annually.

Estimated Number of Respondents: 1,808.

Dated: September 8, 2009.
By direction of the Secretary.
Denise McLamb,
Program Analyst, Enterprise Records Service.

[FR Doc. E9-21959 Filed 9-11-09; 8:45 am]

BILLING CODE 8320-01-P